CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirement on respondents can be properly assessed. Individuals who use a telecommunications device for the deaf (TTY-TDD) may call (202) 565-2799 between 8:30 a.m. and 5:00 p.m. eastern time, Monday through Friday.

Currently, CNCS is soliciting comments concerning AmeriCorps Application Instructions related to the Presidential Memorandum on Expanding National Service through Partnerships. Applicants will respond to the questions included in this information collection request in order to apply for funding through these grant competitions.

Copies of the information collection request can be obtained by contacting the office listed in the addresses section of this notice.

DATES: Written comments must be submitted to the individual and office listed in the ADDRESSES section by December 2, 2013.

ADDRESSES: You may submit comments, identified by the title of the information collection activity, by any of the following methods:

(1) By mail sent to: Corporation for National and Community Service; Attention Jennifer Bastress Tahmasebi, Deputy Director, AmeriCorps State and National, Room 9501; 1201 New York Avenue NW., Washington, DC 20525.

(2) By hand delivery or by courier to the CNCS mailroom at Room 8100 at the mail address given in paragraph (1) above, between 9:00 a.m. and 4:00 p.m. Monday through Friday, except Federal holidays.

(3) Electronically through the CNCS email address system: jbastresstahmasebi@cns.gov or www.regulations.gov.

FOR FURTHER INFORMATION CONTACT: Jennifer Bastress Tahmasebi, (202) 606-6667, or by email at jbastresstahmasebi@cns.gov.

SUPPLEMENTARY INFORMATION:

CNCS is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background: These application instructions will be used by applicants for funding through AmeriCorps State and National grant competitions related to the President's Memorandum on Expanding National Service. These competitions are designed and conducted in partnership with other federal and non-federal entities, when appropriations are available, to address the Corporation's strategic initiatives or other priorities. Applicants will respond to the questions included in these instructions in order to apply for funding in these competitions.

Current Action: CNCS seeks approval for an alternative version of the AmeriCorps State and National Application Instructions. The Application Instructions are being revised to align with the initiative outlined in the President's Memorandum on Expanding National Service. The Application Instructions will be used in the same manner as the existing Application Instructions.

Type of Review: New.

Agency: Corporation for National and Community Service.

Title: AmeriCorps Application Instructions related to the President's Memo on Expanding National Service.

OMB Number: TBD.

Agency Number: None.

Affected Public: Nonprofit organizations, State, Local and Tribal.

Total Respondents: 350.

Frequency: Annually.

Average Time per Response: 24 hours.

Estimated Total Burden Hours: 8,400.

Total Burden Cost (capital/startup): None.

Total Burden Cost (operating/maintenance): None.

Comments submitted in response to this notice will be summarized and/or included in the request for Office of Management and Budget approval of the information collection request; they will also become a matter of public record.

Dated: September 27, 2013.
Bill Basl,
Director, AmeriCorps State and National.

[FR Doc. 2013-24057 Filed 10-2-13; 8:45 am]

BILLING CODE 6050-28-P